FEDERAL RESERVE SYSTEM

Formations of, Acquisitions by, and Mergers of Bank Holding Companies; Correction

This notice corrects a notice (FR Doc. E-23179) published on pages 67725-67726 of the issue for Friday, November 30, 2007.

Under the Federal Reserve Bank of San Francisco heading, the entry for Franklin Resources, Inc., San Mateo, California, is revised to read as follows:

A. Federal Reserve Bank of San Francisco (Tracy Basinger, Director, Regional and Community Bank Group) 101 Market Street, San Francisco, California 94105-1579:

1. Franklin Resources, Inc., San Mateo, California; to retain 5.15 percent of the voting shares of Commerce Bancorp, Inc., Cherry Hill, New Jersey, and thereby indirectly retain voting shares of Commerce Bank, N.A., Philadelphia, Pennsylvania.

Comments on this application must be received by December 26, 2007.

Board of Governors of the Federal Reserve System, December 3, 2007.
Robert deV. Frierson,
Deputy Secretary of the Board.

[FR Doc. E7-23649 Filed 12-5-07; 8:45 am]

BILLING CODE 6210-01-S